DEPARTMENT OF ENERGY

Federal Energy Regulatory Commission

[Project No. 1494-251-OK]

Grand River Dam Authority; Notice of Availability of Draft Environmental Assessment

November 9, 2004.

In accordance with the National Environmental Policy Act of 1969 and the Federal Energy Regulatory Commission's (Commission) regulations, 18 CFR part 380 (Order No. 486, 52 FR 47897), the Office of Energy Projects has reviewed an application for non-project use of project lands and waters at the Pensacola Project (FERC No. 1494) and has prepared a Draft Environmental Assessment (DEA) for the proposed non-project use. The project is located on the Grand (Neosho) River in Craig, Delaware, Mayes, and Ottawa Counties, Oklahoma.

In the application, the Grand River Dam Authority (licensee) requests Commission authorization to permit John Mullen d/b/a Thunder Bay Marina Facility to reconfigure three previously-approved but not-constructed docks at Thunder Bay Marina. The marina is located on the Duck Creek arm of Grand Lake O' the Cherokees, the project reservoir. The DEA contains the Commission staff's analysis of the probable environmental impacts of the proposal and certain staff-identified alternatives.

The DEA is available for review and reproduction at the Commission's Public Reference Room, located at 888 First Street, NE., Room 2A, Washington, DC 20426. The DEA may also be viewed on the Commission's Web site at http://www.ferc.gov using the “eLibrary” link. Enter the dock number (prefaced by P-) and excluding the last three digits, in the docket number field to access the document. For assistance, contact FERC Online Support at FERCOnlineSupport@ferc.gov or toll-free at (866) 208-3676, or for TTY, contact (202) 502-8659.

Comments on the DEA should be filed within 30 days of the date of this notice and should be addressed to Magalie Roman Salas, Secretary, Federal Energy Regulatory Commission, 888 First Street, NE., Washington, DC 20426. Please reference “Pensacola Project, FERC Project No. 1494-251” on all comments. Comments may be filed electronically via the Internet in lieu of paper. See, 18 CFR 385.2001(a)(1)(iii) and the instructions on the Commission's Web site under the “e-Filing” link.

Linda Mitry,
Deputy Secretary.

[FR Doc. E4-3230 Filed 11-17-04; 8:45 am]

BILLING CODE 6717-01-P